DEPARTMENT OF ENERGY

Federal Energy Regulatory Commission

[Project No.: 12796-004]

City of Wadsworth, OH; Notice of Application Accepted for Filing and Soliciting Motions To Intervene and Protests

Take notice that the following hydroelectric application has been filed with the Commission and is available for public inspection.

a. Type of Application: Major Original License.

b. Project No.: 12796-004.

c. Date Filed: March 28, 2011.

d. Applicant: City of Wadsworth, Ohio.

e. Name of Project: R.C. Byrd Hydroelectric Project.

f. Location: On the Ohio River at the U.S. Army Corps of Engineers' (Corps) R.C. Byrd Locks and Dam (river mile 279.2), approximately 12.7 miles south of the confluence of the Ohio River and the Kanawha River and 9 miles south of the Town of Gallipolis, Gallia County, Ohio. The project would occupy 7.6 acres of federal land managed by the Corps.

g. Filed Pursuant to: Federal Power Act, 16 U.S.C. 791(a)-825(r).

h. Applicant Contact: Mr. Chris Easton, Director of Public Services, City of Wadsworth, Ohio, 120 Maple Street, Wadsworth, OH 44281, (330) 335-2777; or Mr. Phillip E. Meier, Assistant Vice President, Hydro Development, American Municipal Power, Inc., 1111 Schrock Road, Suite 100, Columbus, OH 43229, (614) 540-0913.

i. FERC Contact: Gaylord Hoisington, (202) 502-6032 or gaylord.hoisington@ferc.gov.

j. Deadline for filing motions to intervene and protests: 60 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing, but is not ready for environmental analysis at this time.

l. The proposed project would use the existing Corps' R.C. Byrd Locks and Dam and would consist of the following new facilities: (1) A 1,200-foot-long intake channel; (2) a trashrack located in front of each of the generating unit intakes, with a bar spacing of approximately 8 inches; (3) a reinforced concrete powerhouse measuring approximately 258 feet long by 145 feet wide by 110 feet high and housing two bulb-type turbine generator units with a total installed capacity of 50 megawatts; (4) a 900-foot-long tailrace channel; (5) a 2.41-mile-long, 138-kilovolt transmission line; and (6) appurtenant facilities. The proposed project would have an average annual generation of 266 gigawatt-hours.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST,” “MOTION TO INTERVENE,” “NOTICE OF INTENT TO FILE COMPETING APPLICATION,” or “COMPETING APPLICATION;; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Dated: February 7, 2012.
Kimberly D. Bose,
Secretary.

[FR Doc. 2012-3275 Filed 2-10-12; 8:45 am]

BILLING CODE 6717-01-P